SMALL BUSINESS ADMINISTRATION

[Declaration of Disaster #3607]

Commonwealth of Pennsylvania

As a result of the President's major disaster declaration on August 6, 2004, I find that Delaware, Montgomery, and Philadelphia Counties in the Commonwealth of Pennsylvania constitute a disaster area due to damages caused by severe storms and flooding occurring on August 1, 2004, and continuing. Applications for loans for physical damage as a result of this disaster may be filed until the close of business on October 5, 2004 and for economic injury until the close of business on May 6, 2005 at the address listed below or other locally announced locations: U.S. Small Business Administration, Disaster Area 1 Office, 360 Rainbow Blvd., South 3rd Floor, Niagara Falls, NY 14303-1192.

In addition, applications for economic injury loans from small businesses located in the following contiguous counties may be filed until the specified date at the above location: Berks, Bucks, Chester, and Lehigh in the Commonwealth of Pennsylvania; New Castle County in the State of Delaware; and Burlington, Camden, and Gloucester Counties in the State of New Jersey.

The interest rates are:

For Physical Damage:

Homeowners with Credit Available Elsewhere—6.375%

Homeowners without Credit Available Elsewhere—3.187%

Businesses with Credit Available Elsewhere—5.800%

Businesses and Non-Profit Organizations without Credit Available Elsewhere—2.900%

Others (Including Non-Profit Organizations) with Credit Available Elsewhere—4.875%

For Economic Injury:

Businesses and Small Agricultural Cooperatives without Credit Available Elsewhere—2.900%

The number assigned to this disaster for physical damage is 360706. For economic injury the number is 9ZN800 for Pennsylvania; and 9ZN900 for Delaware; and 9ZO1 for New Jersey.

(Catalog of Federal Domestic Assistance Program Nos. 59002 and 59008)
Dated: August 6, 2004.
Jane M. Pease,
Acting Associate Administrator for Disaster Assistance.

[FR Doc. 04-18696 Filed 8-13-04; 8:45 am]

BILLING CODE 8025-01-P